GENERAL SERVICES ADMINISTRATION

41 CFR Part 101-8

RIN 3090-AH33

Nondiscrimination on the Basis of Race, Color, National Origin, Handicap, or Age in Programs or Activities Receiving Federal Financial Assistance; Final Rule

Correction

In rule document 03-21140 beginning on page 51334 in the issue of Tuesday, August 26, 2003, make the following corrections:

§101-8.703 [Amended]

1. On page 51375, in the first column, in §101-8.703, in amendatory instruction 13, in the first line, “Section 1101-8.703” should read “Section 101-8.703.”

2. On the same page, in the same section, in the tableÿ7E, under the heading ÿ7E“Section”, in the sixth entry, “101-703(l)” should read “101-8.703(l)”.

[FR Doc. C3-21140 Filed 10-3-03; 8:45 am]

BILLING CODE 1505-01-D